INTERNATIONAL TRADE COMMISSION

[Inv. No. 337-TA-490]

In the Matter of Certain Power Amplifier Chips, Broadband Tuner Chips, Transceiver Chips, and Products Containing Same; Notice of Commission Determination Not To Review a Final Initial Determination Finding No Violation of Section 337; Termination of the Investigation

AGENCY: U.S. International Trade Commission.

ACTION: Notice.

SUMMARY: Notice is hereby given that the U.S. International Trade Commission has determined not to review the final initial determination (“ID”) issued by the presiding administrative law judge (“ALJ”) on April, 2, 2004, finding no violation of section 337 of the Tariff Act of 1930, 19 U.S.C. 1337, in the above-captioned investigation. Accordingly, the Commission has terminated the investigation with a finding of no violation of section 337.

FOR FURTHER INFORMATION CONTACT: Timothy P. Monaghan, Esq., Office of the General Counsel, U.S. International Trade Commission, 500 E Street, SW., Washington, DC 20436, telephone 202-205-3152. Copies of the public version of the ID and all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov.) The public record for this investigation may be viewed on the Commission's electronic docket (EDIS) at http://edis.usitc.gov.

SUPPLEMENTARY INFORMATION: The Commission instituted this investigation, which concerns allegations of unfair acts in violation of section 337 in the importation and sale of certain power amplifier chips, broadband tuner chips, transceiver chips, and products containing same, on April 4, 2003, based on a complaint filed by Broadcom Corporation of Irvine, California (“Broadcom”). 68 FR 16551. The only respondent named in the investigation is Microtune, Inc. of Plano, Texas (“Microtune”). The complaint alleged that the imported products of Microtune infringe claim 1 of U.S. Patent No. 6,445,039, (“the ‘039 patent”) and claim 2 of U.S. Patent No. 5,682,379 (“the ‘379 patent”). The investigation was subsequently terminated as to the “379 patent.

On April 2, 2004, the ALJ issued his final ID finding no violation of section 337 based on his findings that claim 1 of the ‘039 patent is anticipated by two patents and two prior art semiconductors, and invalid due to obviousness. The ALJ also found that the accused non-die paddle products of respondent Microtune infringe claim 1 of the ‘039 patent, but that Microtune's die paddle products do not infringe that claim. He also found that the ‘039 patent is not unenforceable due to inequitable conduct.

On April 15, 2004, Broadcom filed a petition for review of the final ID. On April 22, 2004, the Commission investigative attorney and Microtune filed responses.

Having reviewed the record in this investigation, including the parties' written submissions, the Commission determined not to review (i.e., to adopt) the ID in its entirety.

This action is taken under the authority of section 337 of the Tariff Act of 1930, 19 U.S.C. 1337, and section 210.42 of the Commission's Rules of Practice and Procedure, 19 CFR 210.42.

Issued: May 20, 2004.
By order of the Commission.
Marilyn R. Abbott,
Secretary to the Commission.

[FR Doc. 04-11865 Filed 5-25-04; 8:45 am]

BILLING CODE 7020-02-P